DEPARTMENT OF HEALTH AND HUMAN SERVICES

Centers for Disease Control and Prevention

[60Day-FY-2021; Docket No. CDC-2021-0019]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on Contact Investigation Outcome Reporting Forms, a collection that facilitates CDC working with state and local health departments, and maritime vessels, in conducting contact investigations of individuals exposed to a communicable illnesses during travel.

DATES: CDC must receive written comments on or before May 7, 2021.

ADDRESSES: You may submit comments, identified by Docket No. CDC-2021-0019 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, of the Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Contact Investigation Outcome Reporting Forms (OMB Control No. 0920-0900 Exp. 05/31/2021)—Revision—National Center for Emerging and Zoonotic Infectious Diseases (NCEZID), Centers for Disease Control and Prevention (CDC).

Background and Brief Description

CDC proposes to collect passenger-level, epidemiologic, demographic, and health status data from state/local Health Departments and maritime operators at the conclusion of contact investigations of individuals believed to have been exposed to a communicable disease during travel. The information requested by CDC would be obtained by the health departments or maritime operators while conducting the contact investigation according to their established policies and procedures, and would be reported to CDC on a voluntary basis. This information will assist CDC in fulfilling its regulatory responsibility to prevent the importation of communicable diseases from foreign countries (42 CFR part 71) and interstate control of communicable diseases in humans (42 CFR part 70).

CDC provides state and local health departments and maritime conveyance operators with information to notify and contact individuals and further investigate this exposure by contacting others who may have been potentially exposed to disease. However, there currently is no standardized tool or form to collect pertinent information regarding the outcome of such investigations. To address the need to inform CDC of additional actions that may be needed to further protect public health based on the outcome of the contact investigations, CDC has developed forms to assist health departments and maritime conveyance operators in reporting back to CDC. The forms are specific to the nature of the investigation; Tuberculosis (TB), Measles, and Rubella, or the General form to for other diseases of public health concern. The purpose of the forms is the same: to collect information to help CDC quarantine officials to fully understand the extent of disease spread and transmission during travel and to inform the development and or refinement of investigative protocols, aimed at reducing the spread of communicable disease.

Respondents are state and local health departments and maritime conveyance operators. Respondents may use these standardized forms to submit data voluntarily to CDC for each individual contacted via a secure means of their choice, (e.g., web-based application, fax or email). Additional respondents are Cruise Ship Medical Staff/Cargo Ship Managers and State/local health department staff. There is no cost to respondents other than their time to complete the form and submit the data to CDC.

Estimated Annualized Burden Hours
Type of respondent | Form name | Number of respondents | Number of responses per respondent | Average burden per response | Total burden hours
Cruise Ship Physicians/Cargo Ship Managers | Clinically Active TB Contact Investigation Outcome Reporting Form—Maritime | 15 | 1 | 20/60 | 5
Cruise Ship Physicians/Cargo Ship Managers | Varicella Investigation Outcome Reporting Form | 29 | 1 | 20/60 | 10
Cruise Ship Physicians/Cargo Ship Managers | Influenza Like Illness Investigation Outcome Reporting Form | 45 | 1 | 20/60 | 15
State/Local public health staff | General Contact Investigation Outcome Reporting Form—Air | 36,000 | 1 | 5/60 | 3,000
State/Local public health staff | TB Contact Investigation Outcome Reporting Form—Air | 100 | 1 | 5/60 | 8
State/Local public health staff | Measles Contact Investigation Outcome Reporting Form—Air | 189 | 1 | 5/60 | 16
State/Local public health staff | Rubella Contact Investigation Outcome Reporting Form—Air | 38 | 1 | 5/60 | 3
State/Local public health staff | General Contact Investigation Outcome Reporting Form—Land | 15 | 1 | 5/60 | 1
Total |  |  |  |  | 3,058

Jeffrey M. Zirger,
Lead, Information Collection Review Office, Office of Scientific Integrity, Office of Science, Centers for Disease Control and Prevention.

[FR Doc. 2021-04673 Filed 3-5-21; 8:45 am]

BILLING CODE 4163-18-P